DEPARTMENT OF COMMERCE

National Institute of Standards and Technology

Announcement of Meeting To Explore Feasibility of Establishing a NIST/Industry Consortium on “Concrete Rheology: Enabling Metrology (CREME)”

AGENCY: National Institute of Standards and Technology, Commerce.

ACTION: Notice of public meeting.

SUMMARY: The National Institute of Standards and Technology (NIST) invites interested parties to attend a pre-consortium meeting on November 8, 2011 to be held at the NIST campus, with the option of participating via web-based meeting. The purpose of the meeting is to evaluate industry interest in creating a NIST/industry/Academia consortium focused on “Concrete Rheology: Enabling Metrology (CREME)”. The goal of such a consortium could include determining key rheological parameters that best characterize the placement, finishability and consolidation of concrete. This goal would be achieved by developing test methods and models to measure and predict the performance parameters of fresh concrete in the lab and at the construction site. To move these ideas into practice and to engage industry, test bed facilities and quality control test methods for the field would be developed at NIST consortium members' participation. The consortium would be administered by NIST with consortium members' participation. Consortium planning, research and development would be conducted by NIST staff along with at least one technical representative from each participating member entities. Each member of the consortium will be required to sign a Cooperative Research and Development Agreement (“CRADA”) with NIST. Membership fees for participation in the consortium will be Twenty-five Thousand ($25,000) per year. The initial term of the consortium is intended to be three years.

DATES: The meeting will take place on November 8, 2011 from 11 a.m. to 1 p.m., in Bldg. 226/Rm. B205. For those planning to attend the meeting at the NIST Gaithersburg campus, please note admittance instructions under the SUPPLEMENTARY INFORMATION section of this notice. Web-based meeting participation: Connection details can be obtained by contacting Chiara Ferraris or Nicos Martys one week prior to the meeting.

ADDRESSES: The meeting will be held on the NIST Gaithersburg campus, 100 Bureau Drive, Gaithersburg, MD 20899.

FOR FURTHER INFORMATION CONTACT: Chiara Ferraris, Nicos Martys, National Institute of Standards and Technology, 100 Bureau Drive, Stop 8615, Gaithersburg, MD 20899-8615, USA; Telephone: (301) 975-6711; Fax (301) 990-6891; E-mail: chiara.ferraris@nist.gov; nicos.martys@nist.gov.

SUPPLEMENTARY INFORMATION: All visitors to the NIST site are required to pre-register to be admitted. Anyone wishing to attend this meeting must register by close of business November 1, 2011, in order to attend. Please submit your name, time of arrival, e-mail address, and phone number to: chiara.ferraris@nist.gov. Non-U.S. citizens must also submit their country of citizenship, title, employer/sponsor, and address. Chiara Ferraris's e-mail address is chiara.ferraris@nist.gov and her telephone number is (301) 975-6711.

Dated: October 13, 2011.
Willie E. May,
Associate Director for Laboratory Programs.

[FR Doc. 2011-27554 Filed 10-24-11; 8:45 am]

BILLING CODE 3510-13-P